SMALL BUSINESS ADMINISTRATION

[Declaration of Disaster #3544]

State of Indiana (Amendment #1)

In accordance with a notice received from the Department of Homeland Security—Federal Emergency Management Agency, effective September 15, 2003, the above numbered declaration is hereby amended to establish the incident period for this disaster as beginning on August 26, 2003 and continuing through September 15, 2003.

All other information remains the same, i.e., the deadline for filing applications for physical damage is November 4, 2003, and for economic injury the deadline is June 7, 2004.

(Catalog of Federal Domestic Assistance Program Nos. 59002 and 59008).
Dated: September 24, 2003.
Herbert L. Mitchell,
Associate Administrator for Disaster Assistance.

[FR Doc. 03-24689 Filed 9-29-03; 8:45 am]

BILLING CODE 8025-01-U